SMALL BUSINESS ADMINISTRATION

Region II Buffalo District Advisory Council; Public Meeting

The U.S. Small Business Administration Region II Advisory Council located in the geographical area of Buffalo, New York, will hold a public meeting at 10 a.m. eastern time on Wednesday, October 20, 2004, at the Buffalo Club, 388 Delaware Avenue, Buffalo, New York, to discuss such matters that may be presented by members, and staff of the U.S. Small Business Administration, or others present. Anyone wishing to make an oral presentation to the Board must contact Franklin J. Sciortino, District Director, in writing by letter or fax no later than Friday, October 15, 2004, in order to be put on the agenda. Franklin J. Sciortino, District Director, U.S. Small Business Administration, 1311 Federal Building, 111 West Hurton Street, Buffalo, NY 14202. Telephone (716) 551-4301 or Fax (716) 551-4418.

Matthew K. Becker,
Committee Management Officer.

[FR Doc. 04-22201 Filed 10-1-04; 8:45 am]

BILLING CODE 8025-01-P